COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List products and services to be furnished by nonprofit agencies employing persons who are blind or have other severe disabilities, and to delete a product previously furnished by such agencies.

Comments Must Be Received on or Before: August 17, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

(End of Certification)

The following products and services are proposed for addition to Procurement List for production by the nonprofit agencies listed:

Products

Product/NSN: Remanufactured Ink Jet Cartridge (50% of the Government Requirement)

7510-01-443-2122

7510-01-443-2123

NPA: Work Transition Services, San Bruno, California

Contract Activity: Office Supplies & Paper Products Acquisition Center, New York, NY

Services

Service Type/Location: Janitorial/Custodial, National Personnel Records Center, St. Louis, Missouri

NPA: Challenge Unlimited, Inc., Alton, Illinois

Contract Activity: GSA, Service Contracts (6PEF-C), Kansas City, Missouri

Service Type/Location: Mailroom Operation, Internal Revenue Service Mailrooms, ServiceSource, Arlington, Virginia (Prime Contractor) and at the following locations for the Nonprofit Agencies identified: Internal Revenue Service Mailroom, Alliance Tower, Houston, Texas

NPA: Lighthouse for the Blind of Houston, Houston, Texas; Internal Revenue Service Mailroom, Atlanta SE, Atlanta, Georgia

NPA: Bobby Dodd Institute, Inc., Atlanta, Georgia; Internal Revenue Service Mailroom, Baltimore, Maryland

NPA: Blind Industries & Services of Maryland, Baltimore, Maryland; Internal Revenue Service Mailroom, Boston, Massachusetts

NPA: Work, Incorporated, North Quincy, Massachusetts; Internal Revenue Service Mailroom, Buffalo, New York

NPA: Phoenix Frontier, Inc., Buffalo, New York; Internal Revenue Service Mailroom, Cincinnati, Ohio

NPA: Ohio Valley Goodwill Industries Rehabilitation Center, Inc., Cincinnati, Ohio; Internal Revenue Service Mailroom, Detroit, Michigan; Internal Revenue Service Mailroom Computing Center, Detroit, MI

NPA: Jewish Vocational Service and Community Workshop, Southfield, Michigan; Internal Revenue Service Mailroom, Headquarters, Washington, DC and New Carrollton, Maryland (Contractor Owned & Operated)

NPA: ServiceSource, Inc., Alexandria, Virginia

NPA: Columbia Lighthouse for the Blind, Washington, DC; Internal Revenue Service Mailroom, Denver, Colorado

NPA: Bayaud Industries, Inc., Denver, Colorado; Internal Revenue Service Mailroom, Greensboro, North Carolina

NPA: Winston-Salem Industries for the Blind, Winston-Salem, North Carolina; Internal Revenue Service Mailroom, Hartford, Connecticut

NPA: Easter Seals Greater Hartford Rehabilitation Center, Inc., Windsor, Connecticut; Internal Revenue Service Mailroom, Indianapolis, Indiana

NPA: GW Commercial Services, Inc., Indianapolis, Indiana; Internal Revenue Service Mailroom, Laguna Niguel, California

NPA: Landmark Services, Inc., Santa Ana, California; Internal Revenue Service Mailroom, Los Angeles, California

NPA: Goodwill Industries of Southern California, Los Angeles, California; Internal Revenue Service Mailroom, North Florida; Internal Revenue Service Mailroom, Modis Building, Jacksonville, Florida

NPA: CCAR Services, Inc., Green Cove Springs, Florida; Internal Revenue Service Mailroom, Nashville, Tennessee

NPA: Goodwill Government Services, Inc., Nashville, Tennessee; Internal Revenue Service Mailroom, New Orleans, Louisiana

NPA: The Lighthouse for the Blind in New Orleans, New Orleans, Louisiana; Internal Revenue Service Mailroom, Oakland, California; Internal Revenue Service Mailroom, San Francisco, California

NPA: Pacific Coast Community Services, Truckee, California; Internal Revenue Service Mailroom, Oklahoma City, Oklahoma

NPA: The Oklahoma League for the Blind, Oklahoma City, Oklahoma; Internal Revenue Service Mailroom, Philadelphia, Pennsylvania

NPA: Horizon House, Inc., Philadelphia, Pennsylvania; Internal Revenue Service Mailroom, Phoenix, Arizona

NPA: Goodwill Community Services, Inc., Phoenix, Arizona; Internal Revenue Service Mailroom, South Florida, Plantation, Florida

NPA: ServiceSource, Inc., Alexandria, Virginia; Internal Revenue Service Mailroom, Richmond, Virginia

NPA: Goodwill Services, Inc., Richmond, Virginia; Internal Revenue Service Mailroom, Riverside, Chicago, Illinois

NPA: Jewish Vocational Service and Employment Center, Chicago, Illinois; Internal Revenue Service Mailroom, Springfield, New Jersey

NPA: New Jersey Association for the Deaf-Blind, Inc, Somerset, New Jersey; Internal Revenue Service Mailroom, St. Louis, Missouri

NPA: MGI Services Corporation, St. Louis, Missouri; Internal Revenue Service Mailroom, St. Paul, Minnesota

NPA: Tasks Unlimited, Inc., Minneapolis, Minnesota

Contract Activity: U.S. Treasury, IRS Headquarters, Oxon Hill, Maryland

Service Type/Location: Reproduction and Courier Service; Naval Facilities Engineering Command, Chesapeake, Washington, DC

NPA: Sheltered Occupational Center of Northern Virginia, Inc., Arlington, Virginia

Contract Activity: Naval Facilities Engineering Command, Chesapeake, Washington, DC

Deletions

Regulatory Flexibility Act Certification

I certify that the following action will not have a significant impact on a substantial number of small entities. The major factors considered for this certification were:

1. If approved, the action will not result in any additional reporting, recordkeeping or other compliance requirements for small entities.

2. If approved, the action will result in authorizing small entities to furnish the product to the Government.

3. There are no known regulatory alternatives which would accomplish the objectives of the Javits-Wagner-O'Day Act (41 U.S.C. 46-48c) in connection with the product proposed for deletion from the Procurement List.

(End of Certification)

The following product is proposed for deletion from the Procurement List:

Product

Product/NSN: Scraper and Squeegee

7920-00-045-2556

NPA: L.C. Industries For The Blind, Inc., Durham, North Carolina

Contract Activity: GSA, Southwest Supply Center, Fort Worth, Texas

Sheryl D. Kennerly,
Director, Information Management.

[FR Doc. 03-18336 Filed 7-17-03; 8:45 am]

BILLING CODE 6353-01-P